DEPARTMENT OF ENERGY

Federal Energy Regulatory Commission

[Docket No. PF24-5-000]

Gulfstream LNG Development, LLC; Notice of Virtual Scoping Sessions and Extension of Scoping Period for the Planned Gulfstream LNG Project

On August 22, 2024, the staff of the Federal Energy Regulatory Commission (FERC or Commission) issued a Notice of Scoping Period Requesting Comments on Environmental Issues for the Planned Gulfstream LNG Project and Notice of Public Scoping Sessions. The notice announced the ongoing scoping period that ends on September 23, 2024. On September 9, 2024, Commission staff issued a Notice of Cancellation of Public Scoping Sessions for the Gulfstream LNG Project. In that notice, staff advised that the Commission would issue another notice to establish the date and time of new sessions, if established and scheduled. With this notice FERC staff invites you to attend virtual public scoping sessions it will conduct by telephone for the planned Gulfstream LNG Project. This notice also extends the scoping period for the project, which will now close on October 21, 2024.

Gulfstream LNG Development, LLC (Gulfstream LNG) plans to construct and operate a liquefied natural gas (LNG) terminal facility for export, domestic sales, and storage along the Mississippi River in Plaquemines Parish, Louisiana. The project would consist of three mid-scale liquefaction trains capable of producing up to 4 million tons per annum of LNG combined; gas processing facilities; two marine loading docks; one LNG storage tank; flares; and other support and ancillary facilities. Feed gas would be sourced from an existing, on-site, 26-inch-diameter intrastate natural gas pipeline owned by High Point Gas Transmission, LLC.

The general location of the project facilities is shown in appendix 1.¹

¹ The appendix referenced in this notice will not appear in the Federal Register.

The virtual meetings will be held as follows:

Gulfstream LNG Project Public Scoping Session

Date, Time, and Call-In Information

Wednesday, October 16, 2024, 6:00 p.m. Central Time, Call in number: 888-810-4938

Thursday, October 17, 2024, 11:00 a.m. Central Time, Call in number: 888-810-4938

Note that the scoping session on October 16, 2024, will start at 6:00 p.m. Central Time and will terminate once all participants wishing to comment have had the opportunity to do so, or at 8:00 p.m. Central Time, whichever comes first. The scoping session on October 17, 2024, will start at 11:00 a.m. Central Time and will terminate once all participants wishing to comment have had the opportunity to do so, or at 1:00 p.m. Central Time, whichever comes first. The primary goal of these scoping sessions is to have you identify the specific environmental issues and concerns that should be considered in the environmental document. Individual oral comments will be taken on a one-on-one basis with a court reporter present on the line. This format is designed to receive the maximum amount of oral comments in a convenient way during the timeframe allotted.

There will be a brief introduction by Commission staff when the sessions open. Important information about the FERC process will be provided, so please make every attempt to call in at the beginning of the meetings. All participants will be able to hear the one-on-one comments provided by other participants; however, all lines will remain closed during the comments of others and then opened one at a time for providing comments.

Your oral comments will be recorded by the court reporter (with FERC staff or representative present on the line) and become part of the public record for this proceeding. Transcripts will be publicly available on FERC's eLibrary system. If a significant number of people are interested in providing oral comments, a time limit of 3 minutes may be implemented for each commentor. It is important to note that oral comments hold the same weight as written or electronically submitted comments.

As a reminder, in lieu of attending the virtual scoping sessions, the Commission encourages electronic filing of comments and has staff available to assist you at (866) 208-3676 or FercOnlineSupport@ferc.gov. Please carefully follow these instructions so that your comments are properly recorded.

(1) You can file your comments electronically using the eComment feature, which is located on the Commission's website (www.ferc.gov) under the link to FERC Online. Using eComment is an easy method for submitting brief, text-only comments on a project;

(2) You can file your comments electronically by using the eFiling feature, which is located on the Commission's website (www.ferc.gov) under the link to FERC Online. With eFiling, you can provide comments in a variety of formats by attaching them as a file with your submission. New eFiling users must first create an account by clicking on “eRegister.” You will be asked to select the type of filing you are making; a comment on a particular project is considered a “Comment on a Filing”; or

(3) You can file a paper copy of your comments by mailing them to the Commission. Be sure to reference the project docket number (PF24-5-000) on your letter. Submissions sent via the U.S. Postal Service must be addressed to: Debbie-Anne A. Reese, Acting Secretary, Federal Energy Regulatory Commission, 888 First Street NE, Room 1A, Washington, DC 20426. Submissions sent via any other carrier must be addressed to: Debbie-Anne A. Reese, Acting Secretary, Federal Energy Regulatory Commission, 12225 Wilkins Avenue, Rockville, MD 20852.

Additionally, the Commission offers a free service called eSubscription, which makes it easy to stay informed of all issuances and submittals regarding the dockets/projects to which you subscribe. These instant email notifications are the fastest way to receive notification and provide a link to the document files which can reduce the amount of time you spend researching proceedings. Go to https://www.ferc.gov/ferc-online/overview to register for eSubscription.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

This notice is being sent to the Commission's current environmental mailing list for the project. Public sessions or site visits will be posted on the Commission's calendar located at https://www.ferc.gov/news-events/events along with other related information. Additional information about the project is available from the Commission's Office of External Affairs, at (866) 208-FERC, or on the FERC website (www.ferc.gov) using the eLibrary link. Click on the eLibrary link, click on “General Search” and enter the docket number in the “Docket Number” field. Be sure you have selected an appropriate date range. For assistance, please contact FERC Online Support at FercOnlineSupport@ferc.gov or toll free at (866) 208-3676, or for TTY, contact (202) 502-8659. The eLibrary link also provides access to the texts of all formal documents issued by the Commission, such as orders, notices, and rulemakings.

Dated: September 26, 2024.
Debbie-Anne A. Reese,
Acting Secretary.

[FR Doc. 2024-22754 Filed 10-2-24; 8:45 am]

BILLING CODE 6717-01-P